DEPARTMENT OF LABOR

Employment and Training Administration

[TA-W-37, 446]

Mulay Plastics Casa Grande, AZ; Dismissal of Application for Reconsideration

Pursuant to 29 CFR 90.18(C) an application for administrative reconsideration was filed with the Director of the Division of Trade Adjustment Assistance for workers at Mulay Plastics, Casa Grande, Arizona. The application contained no new substantial information which would bear importantly on the Department's determination. Therefore, dismissal of the application was issued.

TA-W-37,446; Mulay Plastics, Casa Grande, Arizona.

(May 31, 2000)

Signed at Washington, D.C. this 31st day of May, 2000.
Grant D. Beale,
Program Manager, Division of Trade Adjustment Assistance.

[FR Doc. 00-14474 Filed 6-7-00; 8:45 am]

BILLING CODE 4510-30-M